DEPARTMENT OF THE INTERIOR

Geological Survey

Notice of Proposed Cooperative Research and Development Agreement (CRADA) Negotiations Under the Technology Transfer Act of 1986

SUMMARY: The United States Geological Survey (USGS) is contemplating entering into a Cooperative Research and Development Agreement (CRADA) with Schering-Plough Animal Health Corporation to seek U.S. Food and Drug Administration approval of the antibacterial florfenicol for use in public and private aquaculture.

Inquiries: If any other parties are interested in similar activities with the USGS, please contact: William H. Gingerich, 2630 Fanta Reed Road, La Crosse, Wisconsin 54603; Telephone 608-783-6451; Internet “bill_gingerich@usgs.gov”.

SUPPLEMENTARY INFORMATION: This notice is to meet the USGS requirement stipulated in the Survey Manual.

Susan Haseltine,
Chief Scientist for Biology.

[FR Doc. 01-4412 Filed 2-21-01; 8:45 am]

BILLING CODE 4310-47-M